DEPARTMENT OF LABOR

Employment and Training Administration

[NAFTA-03315]

Justin Boot Company, Justin Management Company, Fort Worth, TX; Amended Certification Regarding Eligibility To Apply for NAFTA-Transitional Adjustment Assistance

In accordance with Section 250(A), Subchapter D, Chapter 2, Title II, of the Trade Act of 1974 (19 U.S.C 2273), the Department of Labor issued a Certification for NAFTA Transitional Adjustment Assistance on September 21, 1999, applicable to workers of Justin Boot Company, Fort Worth, Texas. The notice was published in the Federal Register on October 14, 1999 (64 FR 55753).

At the request of the State agency, the Department reviewed the certification for workers of the subject firm. The workers are engaged in the production of western boots. New information received from the company shows that some workers separated from employment at Justin Boot Company had their wages reported under a separate unemployment insurance (UI) tax account for Justin Management Company.

The intent of the Department's certification is to include all workers of Justin Boot Company who were adversely affected by increased imports from Mexico.

Accordingly, the Department is amending the certification to properly reflect this matter.

The amended notice applicable to NAFTA-03315 is hereby issued as follows:

All workers of Justin Boot Company, Justin Management Company, For Worth, Texas who became totally or partially separated from employment on or after July 21, 1998 through September 21, 2001 are eligible to apply for NAFTA-TAA under Section 250 of the Trade Act of 1974.

Signed at Washington, D.C. this 7th day of March, 2000.
Grant D. Beale,
Program Manager, Division of Trade Adjustment Assistance.

[FR Doc. 00-6373 Filed 3-14-00; 8:45 am]

BILLING CODE 4510-30-M